COMMITTEE FOR THE IMPLEMENTATION OF TEXTILE AGREEMENTS

Announcement of Import Restraint Limits for Certain Cotton, Wool, Man-Made Fiber, Silk Blend and Other Vegetable Fiber Textiles and Textile Products Produced or Manufactured in the Republic of Korea

November 14, 2000.

AGENCY: Committee for the Implementation of Textile Agreements (CITA).

ACTION: Issuing a directive to the Commissioner of Customs establishing limits.

EFFECTIVE DATE: January 1, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The import restraint limits for textile products, produced or manufactured in Korea and exported during the period January 1, 2001 through December 31, 2001 are based on limits notified to the Textiles Monitoring Body pursuant to the Uruguay Round Agreement on Textiles and Clothing (ATC).

In the letter published below, the Chairman of CITA directs the Commissioner of Customs to establish the 2001 limits.

A description of the textile and apparel categories in terms of HTS numbers is available in the CORRELATION: Textile and Apparel Categories with the Harmonized Tariff Schedule of the United States (see Federal Register notice 64 FR 71982, published on December 22, 1999). Information regarding the 2001 CORRELATION will be published in the Federal Register at a later date.

Richard B. Steinkamp,
Chairman, Committee for the Implementation of Textile Agreements.

Committee for the Implementation of Textile Agreements

November 14, 2000.

Commissioner of Customs,

Department of the Treasury, Washington, DC 20229.

Dear Commissioner: Pursuant to section 204 of the Agricultural Act of 1956, as amended (7 U.S.C. 1854); Executive Order 11651 of March 3, 1972, as amended; and the Uruguay Round Agreement on Textiles and Clothing (ATC), you are directed to prohibit, effective on January 1, 2001, entry into the United States for consumption and withdrawal from warehouse for consumption of cotton, wool, man-made fiber, silk blend and other vegetable fiber textiles and textile products in the following categories, produced or manufactured in the Republic of Korea and exported during the twelve-month period beginning on January 1, 2001 and extending through December 31, 2001, in excess of the following levels of restraint:

Category | Twelve-month restraint limit
Group I |
200-223, 224-V ¹, 224-O ², 225-227, 300-326, 360-363, 369pt. ³, 400-414, 464, 469pt. ⁴, 600-629, 666, 669-P ⁵, 669pt. ⁶ and 670-O ⁷, as a group | 407,419,089 square meters equivalent.
Sublevels within Group I |
200 | 513,098 kilograms.
201 | 2,803,813 kilograms.
218 | 10,400,663 square meters.
219 | 9,470,523 square meters.
224-V | 11,939,042 square meters.
300/301 | 3,488,883 kilograms.
313 | 56,856,958 square meters.
314 | 31,700,947 square meters.
315 | 19,491,172 square meters.
317/326 | 21,129,524 square meters.
363 | 1,217,639 numbers.
410 | 3,708,545 square meters.
604 | 441,725 kilograms.
607 | 1,248,081 kilograms.
611 | 4,160,266 square meters.
613/614 | 6,933,775 square meters.
617 | 5,749,961 square meters.
619/620 | 98,704,345 square meters.
624 | 10,146,989 square meters.
625/626/627/628/629 | 17,750,465 square meters.
669-P | 2,553,154 kilograms.
Group II |
237, 239pt. ⁸, 331-348, 350-352, 359-H ⁹, 359pt. ¹⁰, 431, 433-438, 440-448, 459-W ¹¹, 459pt. ¹², 631, 633-652, 659-H ¹³, 659-S ¹⁴ and 659pt. ¹⁵, as a group | 610,355,029 square meters equivalent.
Sublevels within Group II |
237 | 68,998 dozen.
239pt. | 278,992 kilograms.
333/334/335 | 312,020 dozen of which not more than 159,478 dozen shall be in Category 335.
336 | 65,939 dozen.
338/339 | 1,386,755 dozen.
340 | 721,113 dozen of which not more than 374,425 dozen shall be in Category 340-D ¹⁶.
341 | 194,913 dozen.
342/642 | 250,788 dozen.
345 | 134,721 dozen.
347/348 | 513,098 dozen.
350 | 19,178 dozen.
351/651 | 263,459 dozen.
352 | 205,017 dozen.
359-H | 2,953,472 kilograms.
433 | 14,241 dozen.
434 | 7,304 dozen.
435 | 36,785 dozen.
436 | 15,572 dozen.
438 | 62,432 dozen.
440 | 203,003 dozen.
442 | 52,623 dozen.
443 | 322,056 numbers.
444 | 57,344 numbers.
445/446 | 53,423 dozen.
447 | 91,144 dozen.
448 | 37,021 dozen.
459-W | 100,143 kilograms.
631 | 346,169 dozen pairs.
633/634/635 | 1,376,430 dozen of which not more than 156,084 dozen shall be in Category 633 and not more than 581,677 dozen shall be in Category 635.
636 | 289,611 dozen.
638/639 | 5,358,921 dozen.
640-D ¹⁷ | 3,205,306 dozen.
640-O ¹⁸ | 2,671,088 dozen.
641 | 1,081,382 dozen of which not more than 40,846 dozen shall be in Category 641-Y ¹⁹.
643 | 801,140 numbers.
644 | 1,205,280 numbers.
645/646 | 3,671,642 dozen.
647/648 | 1,386,615 dozen.
650 | 28,064 dozen.
659-H | 1,429,798 kilograms.
659-S | 206,387 kilograms.
Group III |
831, 833-838, 840-844, 847-858 and 859pt. ²⁰, as a group | 17,494,508 square meters equivalent.
Sublevel within Group III |
835 | 29,429 dozen.
Group IV |
845 | 2,315,056 dozen.
846 | 822,354 dozen.
Group VI |
369-L/670-L/870 ²¹, as a group | 81,361,297 square meters equivalent.
¹ Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36,0020.
² Category 224-O: all remaining HTS numbers in Category 224.
³ Category 369pt.: all HTS numbers except 4202.12.4000, 4202.12.8020, 4202.12.8060, 4202.92.1500, 4202.92.3016, 4202.92.6091, 6307.90.9905, (Category 369-L); 5601.10.1000, 5601.21.0090, 5701.90.1020, 5701.90.2020, 5702.10.9020, 5702.39.2010, 5702.49.1020, 5702.49.1080, 5702.59.1000, 5702.99.1010, 5702.99.1090, 5705.00.2020 and 6406.10.7700.
⁴ Category 469pt.: all HTS numbers except 5601.29.0020, 5603.94.1010 and 6406.10.9020.
⁵ Category 669-P: only HTS numbers 6305.32.0010, 6305.32.0020, 6305.33.0010, 6305.33.0020 and 6305.39.0000.
⁶ Category 669pt.: all HTS numbers except 6305.32.0010, 6305.32.0020, 6305.33.0010, 6305.33.0020, 6305.39.0000 (Category 669-P); 5601.10.2000, 5601.22.0090, 5607.49.3000, 5607.50.4000 and 6406.10.9040.
⁷ Category 670-O: All HTS numbers except only HTS numbers 4202.12.8030, 4202.12.8070, 4202.92.3020, 4202.92.3031, 4202.92.9026 and 6307.90.9907 (Category 670-L).
⁸ Category 239pt.: only HTS number 6209.20.5040 (diapers).
⁹ Category 359-H: only HTS numbers 6505.90.1540 and 6505.90.2060.
¹⁰ Category 359pt.: all HTS numbers except 6505.90.1540, 6505.20.2060 (Category 359-H); and 6406.99.1550.
¹¹ Category 459-W: only HTS number 6505.90.4090.
¹² Category 459pt.: all HTS numbers except 6505.90.4090 (Category 459-W); 6405.20.6030, 6405.20.6060, 6405.20.6090, 6406.99.1505 and 6406.99.1560.
¹³ Category 659-H: only HTS numbers 6502.00.9030, 6504.00.9015, 6504.00.9060, 6505.90.5090, 6505.90.6090, 6505.90.7090 and 6505.90.8090.
¹⁴ Category 659-S: only HTS numbers 6112.31.0010, 6112.31.0020, 6112.41.0010, 6112.41.0020, 6112.41.0030, 6112.41.0040, 6211.11.1010, 6211.11.1020, 6211.12.1010 and 6211.12.1020.
¹⁵ Category 659pt.: all HTS numbers except 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010, 6211.12.1020 (Category 659-S); 6406.99.1510 and 6406.99.1540.
¹⁶ Category 340-D: only HTS numbers 6205.20.2015, 6205.20.2020, 6205.20.2025 and 6205.20.2030.
¹⁷ Category 640-D: only HTS numbers 6205.30.2010, 6205.30.2020, 6205.30.2030, 6205.30.2040, 6205.90.3030 and 6205.90.4030.
¹⁸ Category 640-O: only HTS numbers 6203.23.0080, 6203.29.2050, 6205.30.1000, 6205.30.2050, 6205.30.2060, 6205.30.2070, 6205.30.2080 and 6211.33.0040.
¹⁹ Category 641-Y: only HTS numbers 6204.23.0050, 6204.29.2030, 6206.40.3010 and 6206.40.3025.
²⁰ Category 859pt.: only HTS numbers 6115.19.8040, 6117.10.6020, 6212.10.5030, 6212.10.9040, 6212.20.0030, 6212.30.0030, 6212.90.0090, 6214.10.2000 and 6214.90.0090.
²¹ Category 870; Category 369-L: only HTS numbers 4202.12.4000, 4202.12.8020, 4202.12.8060, 4202.92.1500, 4202.92.3016, 4202.92.6091 and 6307.90.9905; Category 670-L: only HTS numbers 4202.12.8030, 4202.12.8070, 4202.92.3020, 4202.92.3031, 4202.92.9026 and 6307.90.9907.

The limits set forth above are subject to adjustment pursuant to the provisions of the ATC and administrative arrangements notified to the Textiles Monitoring Body.

Products in the above categories exported during 2000 shall be charged to the applicable category limits for that year (see directive dated December 1, 1999) to the extent of any unfilled balances. In the event the limits established for that period have been exhausted by previous entries, such products shall be charged to the limits set forth in this directive.

The conversion factors for the following merged categories are listed below:

Category | Conversion factor (Square meters equivalent/category unit)
333/334/335 | 33.75
369-L/670-L/870 | 3.8
633/634/635 | 34.1
638/639 | 12.96

In carrying out the above directions, the Commissioner of Customs should construe entry into the United States for consumption to include entry for consumption into the Commonwealth of Puerto Rico.

The Committee for the Implementation of Textile Agreements has determined that these actions fall within the foreign affairs exception of the rulemaking provisions of 5 U.S.C. 553(a)(1).

Sincerely,

Richard B. Steinkamp,

Chairman, Committee for the Implementation of Textile Agreements.

[FR Doc. 00-29567 Filed 11-17-00; 8:45 am]

BILLING CODE 3510-DR-F